DEPARTMENT OF THE INTERIOR

National Park Service

[NPS-WASO-NAGPRA-NPS0037806; PPWOCRADN0-PCU00RP14.R50000]

Notice of Inventory Completion: Jacksonville State University, Jacksonville, AL

AGENCY: National Park Service, Interior.

ACTION: Notice.

SUMMARY: In accordance with the Native American Graves Protection and Repatriation Act (NAGPRA), Jacksonville State University has completed an inventory of human remains and associated funerary objects and has determined that there is a cultural affiliation between the human remains and associated funerary objects and Indian Tribes or Native Hawaiian organizations in this notice.

DATES: Repatriation of the human remains and associated funerary objects in this notice may occur on or after May 28, 2024.

ADDRESSES: Tim Lindblom, Jacksonville State University, 700 Pelham Rd N, Jacksonville, AL 36265, telephone (256) 782-8488, email tlindblom@jsu.edu.

SUPPLEMENTARY INFORMATION: This notice is published as part of the National Park Service's administrative responsibilities under NAGPRA. The determinations in this notice are the sole responsibility of Jacksonville State University, and additional information on the determinations in this notice, including the results of consultation, can be found in the inventory or related records. The National Park Service is not responsible for the determinations in this notice.

Abstract of Information Available

Based on the information available, human remains representing, at least, 21 individuals have been reasonably identified. The at least 1,901 associated funerary objects include lithic debris, ceramic sherds, shells, worked stone objects, wood objects, glass sherds, iron objects, a European-manufactured ceramic sherd, unidentified objects, bone fragments, lithic debitage, mixed fragmentary materials, charcoal samples, and a soil sample. The remains and associated objects are from 10 sites in Alabama. Remains and associated objects from Coosa River (exact provenience unknown), Copena Burial Cave (Talladega County, exact provenience unknown), Bains Gap (1CA625), and Polecat Ford (1CE308) were provided to Jacksonville State University by members of the public. Remains and associated objects from Morgan Mountain (1CA42), Blue Hole (1CA421), Wright's Farm (1CA18), Terrapin Creek (1CE309), and Hog Island (1CE421) were excavated by Jacksonville State University's Archaeological Research Laboratory and field school courses under the direction of Dr. Harry O. Holstein. Remains and associated objects have been curated at Jacksonville State University following excavation or donation. Records indicate that remains from De Soto State Park (1DK49) were excavated by members of the public and/or a follow-up excavation by Jacksonville State University, but have not been physically located.

Cultural Affiliation

Based on the information available and the results of consultation, cultural affiliation is reasonably identified by the geographical location or acquisition history of the human remains and associated funerary objects described in this notice.

Determinations

Jacksonville State University has determined that:

• The human remains described in this notice represent the physical remains of at least 21 individuals of Native American ancestry.

• The at least 1,901 objects described in this notice are reasonably believed to have been placed intentionally with or near individual human remains at the time of death or later as part of the death rite or ceremony.

• There is a reasonable connection between the human remains and associated funerary objects described in this notice and The Muscogee (Creek) Nation.

Requests for Repatriation

Written requests for repatriation of the human remains and associated funerary objects in this notice must be sent to the authorized representative identified in this notice under ADDRESSES. Requests for repatriation may be submitted by:

1. Any one or more of the Indian Tribes or Native Hawaiian organizations identified in this notice.

2. Any lineal descendant, Indian Tribe, or Native Hawaiian organization not identified in this notice who shows, by a preponderance of the evidence, that the requestor is a lineal descendant or a culturally affiliated Indian Tribe or Native Hawaiian organization.

Repatriation of the human remains and associated funerary objects in this notice to a requestor may occur on or after May 28, 2024. If competing requests for repatriation are received, Jacksonville State University must determine the most appropriate requestor prior to repatriation. Requests for joint repatriation of the human remains and associated funerary objects are considered a single request and not competing requests. Jacksonville State University is responsible for sending a copy of this notice to the Indian Tribes and Native Hawaiian organizations identified in this notice.

Authority: Native American Graves Protection and Repatriation Act, 25 U.S.C. 3003, and the implementing regulations, 43 CFR 10.10.

Dated: April 15, 2024.
Melanie O'Brien,
Manager, National NAGPRA Program.

[FR Doc. 2024-08874 Filed 4-24-24; 8:45 am]

BILLING CODE 4312-52-P